DEPARTMENT OF HOMELAND SECURITY

Coast Guard

[USCG-2003-15566]

Navigation Safety Advisory Council

AGENCY: Coast Guard, DHS.

ACTION: Notice of meeting.

SUMMARY: The Navigation Safety Advisory Council (NAVSAC) will meet to discuss various issues relating to the safety of navigation. The meetings are open to the public.

DATES: NAVSAC will meet on Monday and Tuesday, August 11 and 12, 2003, from 8:30 a.m. to 5 p.m., and on Wednesday, August 13, 2003, from 8 a.m. to 12 noon. The meeting may close early if all business is finished. Written material and requests to make oral presentations should reach the Coast Guard on or before August 7, 2003. Requests to have material distributed to each member of the Council prior to the meeting should reach the Executive Director of NAVSAC along with 25 copies of the material on or before August 1, 2003.

ADDRESSES: NAVSAC will meet at the Maritime Institute of Technology (MITAGS), 5700 Hammonds Ferry Road, Linthicum Heights, MD 20190, in Room 8 North located in Building 1. Parking is available in Lots A and B. Send written material and requests to make oral presentations to Margie G. Hegy, Commandant (G-MW), U.S. Coast Guard Headquarters, 2100 Second Street SW., Washington, DC 20593-0001. This notice is available on the Internet in docket number USCG-2003-15566 at http://dms.dot.gov.

FOR FURTHER INFORMATION CONTACT: Margie G. Hegy, Executive Director of NAVSAC, telephone 202-267-0415, fax 202-267-4700.

SUPPLEMENTARY INFORMATION: Notice of this meeting is given under the Federal Advisory Committee Act, 5 U.S.C. App. 2.

Agenda of Meeting

The agenda includes the following:

(1) Maritime security update and member information exchange.

(2) Update on the Marine Transportation System (MTS) Initiative.

(3) Overview/update on Automatic Identification System (AIS) technology and implementation.

(4) Places of refuge.

(5) Status report on ballast water issues.

(6) Interaction between commercial and recreational vessels.

(7) Update on International Maritime Organization (IMO) issues and U.S. positions on issues.

(8) IMO Amendment to International Navigation Rule 8.

Procedural

All meetings are open to the public. Please note that the meeting may close early if all business is finished. At the Chair's discretion, members of the public may make oral presentations during the meetings. If you would like to make an oral presentation, please notify the Executive Director no later than August 7, 2003. Written material for distribution at a meeting should reach the Coast Guard no later than August 7, 2003. If you would like a copy of your material distributed to each member of the Council in advance of the meeting, please submit 25 copies to the Executive Director no later than August 1, 2003.

Information on Services for Individuals With Disabilities

For information on facilities or services for individuals with disabilities or to request special assistance at the meetings, contact the Executive Director as soon as possible.

Dated: July 9, 2003.
T.H. Gilmour,
Rear Admiral, U.S. Coast Guard, Assistant Commandant for Marine Safety, Security and Environmental Protection.

[FR Doc. 03-18118 Filed 7-16-03; 8:45 am]

BILLING CODE 4910-15-P